DEPARTMENT OF HEALTH AND HUMAN SERVICES

[Docket No. FDA-2010-N-0001]

Food and Drug Administration

Food Labeling Workshop; Public Workshop

AGENCY: Food and Drug Administration, HHS.

ACTION: Notice of public workshop.

SUMMARY: The Food and Drug Administration (FDA), Office of Regulatory Affairs, Southwest Regional Small Business Representative (SWR SBR) Program, in collaboration with the University of Arkansas (UA), is announcing a public workshop entitled “Food Labeling Workshop.” This public workshop is intended to provide information about FDA food labeling regulations and other related subjects to the regulated industry, particularly small businesses and startups.

Date and Time: This public workshop will be held on August 4 and 5, 2010, from 8 a.m. to 5 p.m.

Location: The public workshop will be held at the Continuing Education Center, 2 East Center St., Fayetteville, AR (located downtown).

Contact: David Arvelo, Food and Drug Administration, Southwest Regional Office, 4040 North Central Expressway, suite 900, Dallas, TX 75204, 214-253-4952, FAX: 214-253-4970, or e-mail: david.arvelo@fda.hhs.gov.

For information on accommodation options, visit http://www.uark.edu/ua/foodpro/Workshops/Food_Labeling_Workshop.html or contact Steven C. Seideman, 2650 North Young Ave., Institute of Food Science & Engineering, University of Arkansas, Fayetteville, AR 72704, 479-575-4221, FAX: 479-575-2165, or e-mail: seideman@uark.edu.

Registration: You are encouraged to register by July 21, 2010. UA has a $250 registration fee to cover the cost of facilities, materials, and breaks. There is no registration fee for FDA employees. Seats are limited; please submit your registration as soon as possible. Course space will be filled in the order of receipt of registration. Those accepted into the course will receive confirmation. Registration will close after the course is filled. Registration at the site is not guaranteed but may be possible on a space available basis on the day of the public workshop beginning at 8 a.m. The cost of registration at the site is $350 payable to: “The University of Arkansas.” If you need special accommodations due to a disability, please contact Steven C. Seideman (see Contact) at least 14 days in advance.

Registration Form Instructions: To register online, please visit http://www.uark.edu/ua/foodpro/Workshops/Food_Labeling_Workshop.html or submit your full name, business or organization name, complete mailing address, telephone number, e-mail address, optional fax number, and any special accommodations required due to a disability, along with a check or money order for $250 payable to the “The University of Arkansas.” Mail to: Institute of Food Science & Engineering, University of Arkansas, 2650 North Young Ave., Fayetteville, AR 72704.

Transcripts: Transcripts of the public workshop will not be available due to the format of this workshop. Course handouts may be obtained in either hardcopy or on CD-ROM, after submission of a Freedom of Information request. Written requests are to be sent to Division of Freedom of Information (HFI-35), Office of Management Programs, Food and Drug Administration, 5600 Fishers Lane, rm. 6-30, Rockville, MD 20857.

SUPPLEMENTARY INFORMATION: This public workshop is being held in response to the large volume of food labeling inquiries from small food manufacturers and startups originating from the area covered by FDA's Dallas District Office. The SWR SBR presents these workshops to help achieve objectives set forth in section 406 of the Food and Drug Administration Modernization Act of 1997 (21 U.S.C. 393), which include working closely with stakeholders and maximizing the availability and clarity of information to stakeholders and the public. This is consistent with the purposes of the SBR Program, which are in part to respond to industry inquiries, develop educational materials, sponsor workshops and conferences to provide firms, particularly small businesses, with firsthand working knowledge of FDA's requirements and compliance policies. This workshop is also consistent with the Small Business Regulatory Enforcement Fairness Act of 1996 (Public Law 104-121), as outreach activities by government agencies to small businesses.

The goal of this public workshop is to present information that will enable manufacturers and regulated industry to better comply with labeling requirements, especially in light of growing concerns about obesity and food allergens. Information presented will be based on agency position as articulated through regulation, compliance policy guides, and information previously made available to the public. This is a hands-on workshop. Topics to be discussed at the workshop include: (1) Mandatory label elements, (2) nutrition labeling requirements, (3) the Food Allergen Labeling and Consumer Protection Act of 2004, (4) voluntary health and nutrient content claims and (5) special labeling issues such as exemptions and current topics on food labeling and nutrition. FDA expects that participation in this public workshop will provide regulated industry with greater understanding of the regulatory and policy perspectives on food labeling and increase voluntary compliance.

Dated: May 21, 2010.
Leslie Kux,
Acting Assistant Commissioner for Policy.

[FR Doc. 2010-12740 Filed 5-26-10; 8:45 am]

BILLING CODE 4160-01-S